DEPARTMENT OF THE INTERIOR

Bureau of Indian Affairs

Indian Gaming

AGENCY: Bureau of Indian Affairs, Interior.

ACTION: Notice of Approved Tribal—State Class III Gaming Compact.

SUMMARY: This notice publishes approval by the Department of an extension to the Class III Gaming Compact between the State of California and the Federated Indians of Graton Rancheria.

DATES: Effective Date: July 12, 2012.

FOR FURTHER INFORMATION CONTACT: Paula L. Hart, Director, Office of Indian Gaming, Office of the Deputy Assistant Secretary—Policy and Economic Development, Washington, DC 20240; telephone: (202) 219-4066.

SUPPLEMENTARY INFORMATION: Under section 11 of the Indian Gaming Regulatory Act of 1988 (IGRA), Public Law 100-497, 25 U.S.C. 2710, the Secretary of the Interior shall publish in the Federal Register notice of the approved Tribal-State Compact for the purpose of engaging in Class III gaming activities on Indian lands. The Compact between the State of California and the Federated Indians of Graton Rancheria allows for one gaming facility and authorizes up to 3,000 gaming devices, any banking or percentage card games, and any devices or games authorized under State law to the State lottery. The Compact, also, authorizes limited annual payments to the State for Statewide exclusivity. Finally, the term of the compact is until December 31, 2033. This Compact is considered to have been approved but only to the extent that the Compact is consistent with the provisions of IGRA.

Dated: July 6, 2012.
Donald E. Laverdure,
Acting Assistant Secretary—Indian Affairs.

[FR Doc. 2012-17042 Filed 7-9-12; 4:15 pm]

BILLING CODE 4310-4N-P